DEPARTMENT OF LABOR

Mine Safety and Health Administration

[OMB Control No. 1219-0042]

Proposed Extension of Information Collection; Representative of Miners, Notification of Legal Identity, and Notification of Commencement of Operations and Closing of Mines

AGENCY: Mine Safety and Health Administration, Labor.

ACTION: Request for public comments.

SUMMARY: The Department of Labor, as part of its continuing effort to reduce paperwork and respondent burden, conducts a pre-clearance consultation program to provide the general public and Federal agencies with an opportunity to comment on proposed collections of information in accordance with the Paperwork Reduction Act of 1995. This program helps to ensure that requested data can be provided in the desired format, reporting burden (time and financial resources) is minimized, collection instruments are clearly understood, and the impact of collection requirements on respondents can be properly assessed. Currently, the Mine Safety and Health Administration (MSHA) is soliciting comments on the information collection for: (1) designation of miner representative; (2) notification of mine operator's legal identity; and (3) notification of commencement of operations and closing of mines.

DATES: All comments must be received by the Office of Standards, Regulations and Variances on or before August 7, 2023.

ADDRESSES: Comments concerning the information collection requirements of this notice may be sent by any of the methods listed below.

• Federal E-Rulemaking Portal: http://www.regulations.gov. Follow the on-line instructions for submitting comments for docket number MSHA-2023-0019.

• Mail/Hand Delivery: DOL-MSHA, Office of Standards, Regulations, and Variances, 201 12th Street South, Suite 4E401, Arlington, VA 22202-5452. Before visiting MSHA in person, call 202-693-9455 to make an appointment, in keeping with the Department of Labor's COVID-19 policy. Special health precautions may be required.

• MSHA will post all comments as well as any attachments, except for information submitted and marked as confidential, in the docket at https://www.regulations.gov.

FOR FURTHER INFORMATION CONTACT: S. Aromie Noe, Director, Office of Standards, Regulations, and Variances, MSHA, at MSHA.information.collections@dol.gov (email); (202) 693-9440 (voice); or (202) 693-9441 (facsimile). This not a toll-free number.

SUPPLEMENTARY INFORMATION:

I. Background

Section 103(h) of the Federal Mine Safety and Health Act of 1977 (Mine Act), 30 U.S.C. 813(h), authorizes MSHA to collect information necessary to carry out its duty in protecting the safety and health of miners. Further, section 101(a) of the Mine Act, 30 U.S.C. 811, authorizes the Secretary of Labor (Secretary) to develop, promulgate, and revise as may be appropriate, improved mandatory health or safety standards for the protection of life and prevention of injuries in coal or other mines. Below are explained regulatory provisions relevant to this request for collection of information.

Representative of Miners. Section 103(f) and (g) of the Mine Act establishes miners' rights that may be exercised through a representative. 30 CFR 40 contains procedures that a person or organization must follow to be identified by the Secretary as a representative of miners. 30 CFR 40 defines what is meant by “representative of miners,” a term that is not defined in the Mine Act.

30 CFR 40.2 requires a representative of miners to file the information specified in MSHA Form 2000-238 in 30 CFR 40.3 with the MSHA district manager and the mine operator. All filed information shall be maintained by the appropriate MSHA district office and made available for public inspection.

30 CFR 40.3 requires the following information to be filed by the representative of miners with MSHA and the mine operator:

(1) The name, address, and telephone number of the representative of miners. If the representative is an organization, the name, address, and telephone number of the organization and the title of the person or position, who is to serve as the representative, and his or her telephone number.

(2) The name and address of the operator of the mine where the represented miners work and the name, address, and MSHA identification number, if known, of the mine.

(3) A copy of the document evidencing the designation of the representative of miners.

(4) A statement that the person or position named as the representative of miners is the representative for all purposes of the Act; or if the representative's authority is limited, a statement of the limitation.

(5) The names, addresses, and telephone numbers of any additional or alternate representatives to serve in the representative of miners' absence.

(6) A statement that copies of all information filed pursuant to this section have been delivered to the operator of the affected mine, prior to, or concurrently with, the filing of this statement.

(7) A statement certifying that all information filed is true and correct followed by the signature of the representative of miners.

30 CFR 40.4 requires that a copy of the information provided the mine operator pursuant to 30 CFR 40.3 be posted upon receipt by the operator on the mine bulletin board and maintained in a current status. Once the required information has been filed, a representative retains his or her status unless and until his or her designation is terminated.

30 CFR 40.5(a) requires that a representative who is unable to comply with the requirements of 30 CFR 40 must file a written statement with the appropriate MSHA district manager terminating his or her designation.

30 CFR 40.5(b) requires that MSHA shall terminate and remove all designations of the terminated representatives of miners. MSHA must notify the mine operator of the termination.

Notification of Mine Operator's Legal Identity. Section 109(d) of the Mine Act requires each operator of a coal or other mine to file with the Secretary, the name and address of such mine, the name and address of the person who controls or operates the mine, and any changes in such names and addresses.

30 CFR 41 requires the mandatory use of MSHA Form 2000-7, Legal Identity Report, for notifying MSHA of the legal identity of the mine operator. The legal identity of a mine operator enables the Secretary to properly ascertain the identity of persons and entities charged with violations of mandatory standards. It is also used in the assessment of civil penalties. Because of turnover in mining company ownership, and because of the statutory considerations regarding penalty assessments, the operator is required to file information regarding ownership interest in other mines held by the operator and relevant persons in a partnership, corporation, or other organization. This information is also necessary to the Department of Labor's Office of the Solicitor in determining proper parties to actions arising under the Mine Act.

Additionally, MSHA Form 7000-51, Mine Operator Identification Request, is used to allow mine operators to request an MSHA mine identification number for each mine. Mine operators request mine identification numbers prior to completing and submitting the required MSHA Form 2000-7. MSHA requires Form 7000-51 to be submitted electronically, facilitating this legal identity reporting process.

Notification of Commencement of Operations and Closing of Mines. Under 30 CFR 56.1000 (Surface) and 57.1000 (Underground), operators of metal and nonmetal mines must notify MSHA when the operation of a mine will commence or when a mine will be closed.

MSHA must be made aware of mine openings and closings so that the Agency can plan to use its resources efficiently to achieve the requirements of the Mine Act. Section 103(a) of the Mine Act requires that each underground mine to be inspected in its entirety at least four times a year, and each surface mine at least two times per year. Mines that operate only during warmer weather must be scheduled for inspection during the spring, summer, and autumn seasons. Mines are sometimes located a great distance from MSHA field offices, and the notification required by this standard can prevent wasted time and trips.

II. Desired Focus of Comments

MSHA is soliciting comments concerning the proposed information collection related to representative of miners, notification of mine operator's legal identity, and notification of commencement of operations and closing of mines. MSHA is particularly interested in comments that:

• Evaluate whether the collection of information is necessary for the proper performance of the functions of the Agency, including whether the information has practical utility;

• Evaluate the accuracy of MSHA's estimate of the burden of the collection of information, including the validity of the methodology and assumptions used;

• Suggest methods to enhance the quality, utility, and clarity of the information to be collected; and

• Minimize the burden of the collection of information on those who are to respond, through the use of appropriate automated, electronic, mechanical, or other technological collection techniques or other forms of information technology (e.g., permitting electronic submission of responses).

The information collection request will be available on http://www.regulations.gov. MSHA cautions the commenter against providing any information in the submission that should not be publicly disclosed. Full comments, including personal information provided, will be made available on www.regulations.gov and www.reginfo.gov.

The public may also examine publicly available documents at DOL-MSHA, 201 12th South, Suite 4E401, Arlington, VA 22202-5452. Sign in at the receptionist's desk on the 4th floor via the East elevator. Before visiting MSHA in person, call 202-693-9455 to make an appointment, in keeping with the Department of Labor's COVID-19 policy. Special health precautions may be required.

Questions about the information collection requirements may be directed to the person listed in the FOR FURTHER INFORMATION CONTACT section of this notice.

III. Current Actions

This request for collection of information is necessitated by regulatory provisions concerning representative of miners, notification of mine operator's legal identity, and notification of commencement of operations and closing of mines. MSHA has updated the data with respect to the number of respondents, responses, burden hours, and burden costs supporting this information collection request.

Type of Review: Extension, without change, of a currently approved collection.

Agency: Mine Safety and Health Administration.

OMB Number: 1219-0042.

Affected Public: Business or other for-profit.

Number of Respondents: 9,595.

Frequency: On occasion.

Number of Responses: 9,595.

Annual Burden Hours: 1,823 hours.

Annual Respondent or Recordkeeper Cost: $780.

MSHA Forms:

MSHA Form 2000-7, Legal Identity Report;

MSHA Form 7000-51, Mine Operator Identification Request;

MSHA Form 2000-238, Representative of Miners Designation Form.

Comments submitted in response to this notice will be summarized and included in the request for Office of Management and Budget approval of the information collection request; they will also become a matter of public record.

Song-ae Aromie Noe,
Certifying Officer, Mine Safety and Health Administration.

[FR Doc. 2023-12121 Filed 6-6-23; 8:45 am]

BILLING CODE 4520-43-P